ELECTION ASSISTANCE COMMISSION

Notice of Public Meeting for EAC Standards Board (Correction)

AGENCY: U.S. Election Assistance Commission.

DATE AND TIME: Thursday, April 14, 2016, 9:00 a.m.-5:00 p.m. and Friday, April 15, 2016, 8:10 a.m.-12:00 p.m. (Executive Board Session: Thursday, April 14, 2016, 7:30 p.m.).

PLACE: The Sheraton Carlsbad Hotel, 5480 Grand Pacific Drive, Carlsbad, CA 92008, Phone: (760) 827-2400.

SUMMARY: EAC is correcting the original notice that published on March 30, 2016 to reference that the meeting is being held in accordance with the Federal Advisory Committee Act (FACA), and to provide instructions on the submission of relevant public statements regarding the meeting.

Purpose: In accordance with the Federal Advisory Committee Act (FACA), Public Law 92-463, as amended (5 U.S.C. Appendix 2), the U.S. Election Assistance Commission (EAC) Standards Board will meet to address its responsibilities under the Help America Vote Act of 2002 (HAVA), to present its views on issues in the administration of Federal elections, formulate recommendations to the EAC, and receive updates on EAC activities.

Agenda: The Standards Board will receive an overview of EAC Agency Operations, and will receive updates on EAC Grants and Audits, EAC Testing and Certification, and EAC's New Web site Rollout. The Board will receive an update on the Status of State Testing and Certification Consortium. The Board will receive an update on the work of EAC's Technical Guidelines Development Committee (TGDC). The Board will discuss and vote on recommendations from the TGDC. The Board will receive briefings from the National Association of Secretaries of State (NASS), the Federal Voting Assistance Program (FVAP), and the United States Postal Service (USPS).

The Standards Board will conduct committee breakout sessions and hear committee reports. The Board will discuss and vote on proposed Bylaws amendments, and will fill vacancies on the Executive Board of the Standards Board. The Executive Board will elect new officers, appoint Standards Board committee members and chairs, and consider other administrative matters.

SUPPLEMENTARY INFORMATION: Members of the public may submit relevant written statements to the Standards Board with respect to the meeting no later than 5:00 p.m. EDT on Tuesday, April 12, 2016. Statements may be sent via email at facaboards@eac.gov, via standard mail addressed to the U.S. Election Assistance Commission, 1335 East West Highway, Suite 4300, Silver Spring, MD 20910, or by fax at 301-734-3108.

This meeting will be open to the public.

Person To Contact for Information: Bryan Whitener, Telephone: (301) 563-3961.

Bryan Whitener,
Director of Communications and Clearinghouse, U.S. Election Assistance Commission.

[FR Doc. 2016-08402 Filed 4-12-16; 8:45 am]

BILLING CODE 6820-KF-P